NUCLEAR REGULATORY COMMISSION

[Docket Nos. 50-387 AND 50-388; NRC-2008-0246]

PPL Susquehanna, LLC, Susquehanna Steam Electric Station, Units 1 and 2; Notice of Availability of the Final Supplement 35 to the Generic Environmental Impact Statement for License Renewal of Nuclear Plants, Regarding the License Renewal of Susquehanna Steam Electric Station, Units 1 and 2

Notice is hereby given that the U.S. Nuclear Regulatory Commission (NRC, Commission) has published a final plant-specific supplement to the “Generic Environmental Impact Statement for License Renewal of Nuclear Plants (GEIS)”, NUREG-1437, regarding the renewal of operating licenses NPF-14 and NPF-22 for an additional 20 years of operation for the Susquehanna Steam Electric Station, Units 1 and 2 (SSES). SSES is located on the western shore of the Susquehanna River in Salem Township, Pennsylvania. SSES is 5 miles north of the Borough of Berwick, 20 miles southeast of Wilkes-Barre, and 50 miles northwest of Allentown. Possible alternatives to the proposed action (license renewal) include no action and reasonable alternative energy sources.

As discussed in Section 9.3 of the final Supplement 35, based on: (1) The analysis and findings in the GEIS; (2) the Environmental Report submitted by PPL Susquehanna, LLC; (3) consultation with Federal, State, and local agencies; (4) the NRC staff's own independent review; and (5) the NRC staff's consideration of public comments, the recommendation of the staff is that the adverse environmental impacts of license renewal for SSES are not so great that preserving the option of license renewal for energy-planning decision makers would be unreasonable.

The final Supplement 35 to the GEIS is publicly available at the NRC Public Document Room (PDR), located at One White Flint North, 11555 Rockville Pike, Rockville, Maryland 20852, or from the NRC's Agencywide Documents Access and Management System (ADAMS). The ADAMS Public Electronic Reading Room is accessible at http://adamswebsearch.nrc.gov/dologin.htm. The Accession Number for the final Supplement 35 to the GEIS is ML090700454. Persons who do not have access to ADAMS, or who encounter problems in accessing the documents located in ADAMS, should contact the NRC's PDR reference staff by telephone at 1-800-397-4209, or 301-415-4737, or by e-mail at pdr@nrc.gov. In addition, the McBride Memorial Library, located at 205 Chestnut St., Berwick, PA 18603, and the Mill Memorial Library, located at 495 East Main Street, Nanticoke, PA 18634, have agreed to make the final supplement available for public inspection.

FOR FURTHER INFORMATION CONTACT: Mr. Andrew Stuyvenberg, Projects Branch 2, Division of License Renewal, Office of Nuclear Reactor Regulation, U.S. Nuclear Regulatory Commission, Mail Stop O-11F1, Washington, DC 20555-0001. Mr. Stuyvenberg may be contacted by telephone at 1-800-368-5642, extension 4006 or via e-mail at andrew.stuyvenberg@nrc.gov.

Dated at Rockville, Maryland, this 13th day of March, 2009.
For the Nuclear Regulatory Commission.
David L. Pelton,
Chief, Projects Branch 1, Division of License Renewal, Office of Nuclear Reactor Regulation.

[FR Doc. E9-6110 Filed 3-19-09; 8:45 am]

BILLING CODE 7590-01-P